DEPARTMENT OF THE TREASURY

Submission for OMB Review; Comment Request

August 6, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 13, 2004 to be assured of consideration.

Internal Revenue Service (IRS)

OMB Number: 1545-0936.

Form Number: IRS Form 8453.

Type of Review: Extension.

Title: U.S. Individual Income Tax Declaration for an IRS e-file Return.

Description: This form will be used to secure taxpayers' signatures and declarations in conjunction with the Electronic Filing program. This form, together with the election transmission, will comprise the taxpayer's income tax return.

Respondents: Individuals or households.

Estimated Number of Respondents/Recordkeepers: 12,300,000.

Estimated Burden Hours Respondent/Recordkeeper: 15 minutes.

Frequency of response: Annually.

Estimated Total Reporting/Recordkeeping Burden: 3,075,000 hours.

Clearance Officer: Glenn P. Kirkland, (202) 622-3428, Internal Revenue Service, Room 6411-03, 1111 Constitution Avenue, NW.,Washington, DC 20224.

OMB Reviewer: Joseph F. Lackey, Jr., (202) 395-7316, Office of Management and Budget, Room 10235, New Executive Office Building, Washington, DC 20503.

Lois K. Holland,
Treasury PRA Clearance Officer.

[FR Doc. 04-18581 Filed 8-12-04; 8:45 am]

BILLING CODE 4830-01-P]